DEPARTMENT OF TRANSPORTATION

National Highway Traffic Safety Administration

[U.S. DOT Docket No. NHTSA-2010-0109]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995 (44 U.S.C. 3501 et seq.), before seeking OMB approval, Federal agencies must solicit public comment on proposed collections of information, including extensions and reinstatements of previously approved collections.

This document describes an Information Collection Request (ICR) for which NHTSA intends to seek OMB approval.

DATES: Comments must be submitted on or before October 15, 2010.

ADDRESSES: Direct all written comments to the U.S. Department of Transportation Dockets, 1200 New Jersey Ave, SE., Washington, DC 20590. You may also submit comments electronically at http://www.regulations.gov. All comments should refer to the Docket No. NHTSA-2010-0109.

FOR FURTHER INFORMATION CONTACT: Jessica Cicchino, Ph.D, Contracting Officer's Technical Representative, Office of Behavioral Safety Research (NTI-131), National Highway Traffic Safety Administration, 1200 New Jersey Ave, SE., W46-491, Washington, DC 20590. Dr. Cicchino's phone number is 202-366-2752 and her e-mail address is jessica.cicchino@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Title: The Effect of Entry-Level Motorcycle Rider Training on Motorcycle Crashes.

Type of Request: New information collection request.

OMB Clearance Number: None.

Form Number: This collection of information uses no standard forms.

Requested Expiration Date of Approval: 3 years from date of approval.

Summary of the Collection of Information: The National Highway Traffic Safety Administration (NHTSA) plans on combining information from surveys, motorcycle riding skills tests, and archival records to examine the effect of entry-level motorcycle rider training on safe motorcycle riding. Participation by respondents will be voluntary. Surveys will be used to collect information from motorcycle riders on topics such as demographics, attitudes towards safety, miles and years of riding experience, purpose of riding, training history, alcohol use while riding, use of helmets and protective gear while riding, and riding experience under different conditions (for instance, in inclement weather or while fatigued).

This information will be used to initially match riders that have received entry-level training with untrained riders at the start of the study to ensure that these groups are comparable in terms of demographics, safety attitudes, riding experience, and purpose of riding. Survey information will additionally supplement data from skills tests of riders' on-motorcycle performance and archival data on riders' crashes, injury severity, and motor vehicle citations. Data collected from motorcycle riders that have received entry-level rider training will be compared to data from untrained motorcycle riders.

Surveys will be conducted electronically over the internet when possible, with a pen-and-paper option available if preferred by the respondent.

Need and Use of Information: NHTSA's mission is to save lives, prevent injuries, and reduce healthcare and other economic costs associated with motor vehicle crashes. A total of 5,290 motorcycle riders lost their lives in traffic crashes in 2008. This represents a 150% increase in the number of motorcycle fatalities since 1997. In contrast, the number of fatalities from car crashes has decreased during this time.

Motorcycle rider training is a part of most States' motorcycle safety programs, and funds are set aside under Section 2010 of SAFETEA-LU in part to help States increase their motorcycle training. A study conducted by Billheimer (1998) found that trained riders with less than 500 miles of riding experience had a lower crash rate than untrained riders during the six months after training. Other studies conducted on the effectiveness of motorcycle rider training in the United States, however, have not found an effect of motorcycle rider training on crashes. Thus, the extent to which motorcycle rider training reduces crash involvement is unclear.

In 2000, NHTSA and the Motorcycle Safety Foundation published the National Agenda for Motorcycle Safety (NAMS), which includes recommendations to improve motorcycle safety efforts in the United States. One of the recommendations in the NAMS is to “conduct uniform follow-up research into the effectiveness and impact of rider education and training.” NHTSA convened an expert panel in 2008 to discuss the best way to perform a comprehensive study of the effectiveness of motorcycle rider training (Brock, Robinson, Robinson & Percer, 2010). The panel concluded that such a study should examine the effect of rider training on the characteristics of a safe rider, which would encompass riders' on-motorcycle skills in addition to the outcomes of their riding (crashes and injuries) and their preparation for riding (such as avoiding impairments). The proposed study will carry out the recommendations of the expert panel.

Description of the Likely Respondents (Including Estimated Number, and Proposed Frequency of Response to the Collection of Information): Respondents will be motorcycle riders that have and have not completed an entry-level motorcycle rider training course, with an emphasis on novice riders with less than 500 miles of riding experience. Participation will be solicited through motorcycle rider training courses, Departments of Motor Vehicles, motorcycle dealerships, motorcycle accessory shops, and at motorcycle trade shows.

Under this collection, up to 16,000 motorcycle riders (8,000 trained and 8,000 untrained) will participate in an initial screening survey. Of this initial sample, approximately 625 trained riders will be matched with 625 untrained riders on the basis of similarities in their demographics, safety attitudes, riding experience, and riding purpose for a total of 1,250 riders. These 1,250 motorcycle riders will participate in two additional follow-up surveys: One six months after the initial matching survey, and one 18 months after the initial matching survey. Consequently, of the initial 16,000 respondents, the 1,250 matched riders will be surveyed three times over 18 months, and the 14,750 unmatched riders will be surveyed once. The purpose of this matched pairs survey is to obtain information on how trained and untrained motorcycle riders prepare for riding and on their prior riding experience, which will supplement data from archival records on crashes, injury severity, and motor vehicle citations.

An additional group of motorcycle riders will respond to surveys in conjunction with participating in a motorcycle riding skills test. Two hundred seventy motorcycle riders, 135 trained and 135 untrained, will complete a survey and an on-motorcycle skills test shortly after receiving training (for trained riders) or shortly after beginning the study (for untrained riders). The same number of riders will complete a follow-up survey and on-motorcycle skills test six months later.

Estimate of the Total Annual Reporting and Record Keeping Burden Resulting from the Collection of Information: The initial screening survey will take approximately 15 minutes to complete, and all other surveys will take approximately 12 minutes to complete. The estimated burden for respondents that participate in the initial screening survey only is 3,687.5 hours (14,750 respondents at 15 minutes each). The additional estimated burden for the 1,250 riders that are matched from the screening survey is 812.5 hours (1,250 respondents, surveys at three time points, 15 minutes for the first survey, 12 minutes each for subsequent surveys). Finally, the estimated burden for the information collected from the skills test participants is 108 hours (270 respondents, surveys at two time points, 12 minutes each).

The total burden resulting from the collection of information is 4,608 hours. For the respondents that participate in the initial screening survey only, the annual estimated burden is 3,687.5 hours. For the 1,250 respondents matched from the screening survey, the estimated annual burden is 542 hours (812.5 hours total over a period of 18 months). For the riders that will participate in the on-motorcycle skills test, the estimated annual burden from information collection is 108 hours. Therefore, the total estimated annual burden is 4,337.5 hours. The respondents would not incur any recordkeeping burden or recordkeeping cost from the information collection.

Authority: 44 U.S.C. Section 3506(c)(2)(A).

Jeff Michael,
Associate Administrator, Research and Program Development.

[FR Doc. 2010-20162 Filed 8-13-10; 8:45 am]

BILLING CODE 4910-59-P